DEPARTMENT OF THE INTERIOR

Fish and Wildlife Service

[FWS-R1-ES-2015-N151; FXES11130100000-156-FF01E00000]

Endangered and Threatened Wildlife and Plants; Recovery Plan for the Coterminous United States Population of Bull Trout

AGENCY: Fish and Wildlife Service, Interior.

ACTION: Notice of document availability.

SUMMARY: We, the U.S. Fish and Wildlife Service (Service), announce the availability of the final Recovery Plan for the Coterminous United States Population of Bull Trout, including six final recovery unit implementation plans, under the Endangered Species Act of 1973, as amended (Act). The recovery plan includes specific goals, objectives, and criteria that should be met in order to consider removing the species from the Federal List of Endangered and Threatened Wildlife.

ADDRESSES: An electronic copy of the recovery plan is available at http://www.fws.gov/endangered/species/recovery-plans.html and http://www.fws.gov/pacific/ecoservices/endangered/recovery/plans.html. Copies of the recovery plan are also available by request from the U.S. Fish and Wildlife Service, Idaho Fish and Wildlife Office, 1387 S. Vinnell Way, Room 368, Boise, ID 83709; telephone (208) 378-5345. Printed copies of the recovery plan will be available for distribution approximately 4 to 6 weeks after publication of this notice.

FOR FURTHER INFORMATION CONTACT: Michael Carrier, State Supervisor, U.S. Fish and Wildlife Service, Idaho Fish and Wildlife Office, at the above Boise address; telephone (208) 378-5243. If you use a telecommunications device for the deaf (TDD), call the Federal Information Relay Service (FIRS) at 1-800-877-8339.

SUPPLEMENTARY INFORMATION:

Background

In November 1999, all populations of bull trout (Salvelinus confluentus) within the coterminous United States were listed as a threatened species pursuant to the Endangered Species Act of 1973, as amended (16 U.S.C. 1531 et seq.; Act) (64 FR 58910; November 1, 1999). This final listing added bull trout in the Coastal-Puget Sound populations (Olympic Peninsula and Puget Sound regions) and Saint Mary-Belly River populations (east of the Continental Divide in Montana) to the previous listing of three distinct population segments of bull trout in the Columbia River, Klamath River, and Jarbidge River basins (63 FR 31647, June 10, 1998; 64 FR 17110, April 8, 1999).

Recovery of endangered and threatened animals and plants is a primary goal of our endangered species program. To help guide the recovery effort, we prepare recovery plans for most listed species. Recovery plans describe actions considered necessary for conservation of the species, establish criteria for downlisting or delisting, and estimate time and cost for implementing recovery measures.

Section 4(f) of the Act requires that public notice, and an opportunity for public review and comment, be provided during recovery plan development. For the coterminous population of bull trout, three separate draft bull trout recovery plans were completed in 2002 and 2004. The 2002 draft recovery plan (USFWS 2002) addressed bull trout populations within the Columbia, St. Mary-Belly, and Klamath River basins and included individual chapters for 24 separate recovery units. In 2004, draft recovery plans were developed for the Coastal-Puget Sound drainages in western Washington, including two recovery unit chapters (USFWS 2004a), and for the Jarbidge River in Nevada (USFWS 2004b). These draft recovery plans were not finalized, but they have served to identify recovery actions across the range of the species, and provide the framework for implementing numerous recovery actions by our partner agencies, local working groups, and others with an interest in bull trout conservation. A revised draft recovery plan, addressing the overall recovery strategy for bull trout throughout its range in the coterminous United States, was made available for public comment from September 4 through December 3, 2014 (79 FR 52741). Subsequently, from June 4 through July 20, 2015 (80 FR 31916), we made available for public comment our proposed modifications to the recovery criteria, as well as six associated draft recovery unit implementation plans (RUIPs), supplemental recovery planning documents which describe more detailed site-specific conservation actions and implementation schedules for each of the six recovery units (Coastal, Klamath, Mid-Columbia, Columbia Headwaters, Upper Snake, and St. Mary).

We considered information we received from public comments and peer reviewers in our preparation of the final recovery plan. Updated information was incorporated into the final recovery plan and the six final RUIPs as appropriate, and substantive issues and comments, together with our responses, are summarized in appendices. Comments relating to overall recovery strategy and criteria are addressed in an appendix to the final recovery plan, while those comments specific to individual recovery units are addressed in appendices to each RUIP.

Recovery Plan Components

The primary recovery strategy for bull trout in the coterminous United States that we describe in the recovery plan is to: (1) Conserve bull trout so that they are geographically widespread across representative habitats and demographically stable in six recovery units; (2) effectively manage and ameliorate the primary threats in each of six recovery units at the core area scale such that bull trout are not likely to become endangered in the foreseeable future; (3) build upon the numerous and ongoing conservation actions implemented on behalf of bull trout since their listing in 1999, and improve our understanding of how various threat factors potentially affect the species; (4) use that information to work cooperatively with our partners to design, fund, prioritize, and implement effective conservation actions in those areas that offer the greatest long-term benefit to sustain bull trout and where recovery can be achieved; and (5) apply adaptive management principles to implementing the bull trout recovery program to incorporate new information.

Bull trout population status is stable or increasing in some core areas. However, in developing this recovery plan, we also acknowledge that despite our best conservation efforts, it is possible that some existing bull trout core areas may become extirpated due to various factors, including the effects of small populations and isolation. Our current approach to developing recovery criteria and necessary recovery actions for bull trout is intended to ensure adequate conservation of genetic diversity, life history features, and broad geographical representation of bull trout populations while acknowledging some local extirpations may occur.

We may initiate an assessment of whether recovery has been achieved and delisting is warranted when the recovery criteria below have been met in each recovery unit. Alternatively, if recovery criteria are met in an individual recovery unit, we may initiate an assessment of whether it is possible to designate that recovery unit as a distinct population segment and if delisting of that distinct population segment would be warranted.

For the Coastal, Mid-Columbia, and Upper Snake Recovery Units, the recovery criteria provide that primary threats must be managed effectively in at least 75 percent of all core areas, representing 75 percent or more of bull trout local populations within each of these three recovery units. For the Columbia Headwaters Recovery Unit, the recovery criteria provide that primary threats must be managed effectively in at least 75 percent of complex core areas and at least 75 percent of simple core areas, representing 75 percent or more of bull trout local populations within the recovery unit. For the Klamath and St. Mary Recovery Units, the recovery criteria provide that all primary threats must be managed effectively in all existing core areas, representing all existing local populations. In addition, because 9 of the 17 known local populations in the Klamath Recovery Unit have been extirpated and others are significantly imperiled and require active management, we believe that the geographic distribution of bull trout within this recovery unit needs to be substantially expanded before it can be considered to have met recovery goals. To achieve recovery, we seek to add seven additional local populations distributed among the three core areas (two in the Upper Klamath Lake core area, three in the Sycan core area, and two in the Upper Sprague core area). In recovery units where shared foraging/migratory/overwintering (FMO) habitat outside core areas has been identified, connectivity and habitat in these shared FMO areas should be maintained in a condition sufficient for regular bull trout use and successful dispersal among the connecting core areas for those core areas to meet the criterion.

If threats are effectively managed at these thresholds, we expect that bull trout populations will respond accordingly and reflect the biodiversity principles of resiliency, redundancy, and representation. Specifically, achieving the recovery criteria in each recovery unit would result in geographically widespread and demographically stable local bull trout populations within the range of natural variation, with their essential cold water habitats connected to allow their diverse life history forms to persist into the foreseeable future; therefore, the species would be brought to the point where the protections of the Act are no longer necessary.

Authority: The authority for this action is section 4(f) of the Endangered Species Act of 1973, as amended (16 U.S.C. 1531 et seq.).

Dated: September 3, 2015.
Robyn Thorson,
Regional Director, Pacific Region, U.S. Fish and Wildlife Service.

[FR Doc. 2015-24670 Filed 9-29-15; 8:45 am]

BILLING CODE 4310-55-P